DEPARTMENT OF COMMERCE

National Oceanic and Atmospheric Administration

RIN 0648-XT44

Gulf of Mexico Fishery Management Council; Public Scoping Meetings

AGENCY: National Marine Fisheries Service (NMFS), National Oceanic and Atmospheric Administration (NOAA), Commerce.

ACTION: Notice of scoping meetings.

SUMMARY: The Gulf of Mexico Fishery Management Council (Council) will convene Scoping Meetings on proposed Amendment 32, dealing primarily with gag and red grouper.

DATES: The scoping meetings will be held on January 11, 2010 through January 19, 2010 at eight locations throughout the Gulf of Mexico. For specific dates, times and subjects, see SUPPLEMENTARY INFORMATION.

ADDRESSES: The scoping meetings will be held in the following locations: St. Petersburg, Key West, Ft. Myers and Panama City, FL, Biloxi, MS, Galveston, TX, New Orleans, LA and Orange Beach, AL. For specific dates, times and subjects see SUPPLEMENTARY INFORMATION.

Council address: Gulf of Mexico Fishery Management Council, 2203 North Lois Avenue, Suite 1100, Tampa, FL 33607.

FOR FURTHER INFORMATION CONTACT: Steven Atran, Population Dynamic Statistician; Gulf of Mexico Fishery Management Council; telephone: (813) 348-1630.

SUPPLEMENTARY INFORMATION: The Gulf of Mexico Fishery Management Council has scheduled eight scoping meetings on proposed Amendment 32, dealing primarily with gag and red grouper.

A SEDAR Assessment Workshop was convened during March 30 - April 2, 2009 at the National Marine Fisheries Service Southeast Fisheries Science Center in Miami, FL to update the benchmark assessments of Gulf of Mexico gag and red grouper conducted in 2006 as SEDAR 10 and SEDAR 12 respectively. Two reports detailing the results of the workshop, one for each stock, were published on August 3, 2009. The red grouper update assessment found that the stock was neither overfished nor undergoing overfishing. However, the 2008 spawning stock biomass had declined to just above its minimum stock size threshold, and the current fishing mortality rate was above the rate associated with fishing at optimum yield. As a result, the Scientific and Statistical Committee recommended an Acceptable Biological Catch to a level that is below the current annual catch limit. Consequently, a reduction in the annual catch limit and annual catch target is needed to bring management into compliance with the new Acceptable Biological Catch. The gag update assessment found that the gag stock was overfished and undergoing overfishing, with the 2008 spawning stock size at 47 percent of the minimum stock size threshold, and a current fishing mortality rate 2.47 times greater than the maximum fishing mortality threshold. A rebuilding plan is necessary to end overfishing of gag and to rebuild the stock.

Potential actions for scoping include establishing a rebuilding plan for gag, revising annual catch limits and optionally annual catch targets for gag and red grouper, revising accountability measures for gag and red grouper, making adjustments to the multi-use shares in the individual fishing quota system for the commercial grouper fishery, addressing commercial bycatch issues including consideration of fish traps as an allowable gear to reduce bycatch in the red grouper fishery, addressing recreational bycatch issues including a keep the first gag caught strategy, recreational data collection and monitoring programs such as a fish tag program or a fish stamp program, and time and area closures to direct fisheries away from gag concentrations and toward red grouper. Potential actions for scoping will also include a number of public-proposed initiatives to improve management and data collection of grouper fisheries including recreational sector separation of the for-hire and private recreational sectors, vessel monitoring systems for for-hire recreational vessels, a telephone or web based reporting system for recreational fisheries, electronic logbooks, and grouper endorsements. The public is welcome to suggest other actions for management or data collection and monitoring of gag and red grouper fisheries that are not listed in the scoping document.

The eight scoping meetings will begin at 6 p.m. and conclude at the end of public testimony or no later than 9 p.m. at the following locations:

**Monday, January 11, 2010, Monroe County Harvey Government Center, 1200 Truman Avenue, Key West, FL 33040;

Monday, January 11, 2010, Holiday Inn, 5002 Seawall Blvd., Galveston, TX 77550, telephone: (409) 740-3581;

*Tuesday, January 12, 2010, Hilton, 950 Lake Carillon Drive, St. Petersburg, FL 33716, telephone: (727) 540-0050;

Tuesday, January 12, 2010, Best Western, 7921 Lamar Poole Road, Biloxi, MS 39532, telephone: (228) 875-7111;

Wednesday, January 13, 2010, Fairfield Inn and Suites, 3111 Loop Road, Orange Beach, AL 36561, telephone: (251) 513-4444;

**Wednesday, January 13, 2010, Ramada, 4760 S. Cleveland Avenue, Ft. Myers, FL 33907, telephone: (239) 275-1111;

*Thursday, January 14, 2010, The Boardwalk, 9600 S. Thomas Drive, Panama City, FL 32408, telephone: (850) 234-2154;

Tuesday, January 19, 2010, Crowne Plaza, 2829 Williams Blvd., Kenner, LA 70062, telephone: (504) 467-5611.

* Note a scoping meeting format change for these meetings. Two rooms will be used - one room where participants can get answers to questions about the proposed amendment, and the other room for participants to provide input.

** Note a scoping meeting format change for these meetings. An informal roundtable discussion regarding the proposed amendment will be held during the first hour of the meeting, from 6 p.m. - 7 p.m. Public input will be taken beginning at 7 p.m. and will end no later than 9 p.m.

Copies of the scoping document can be obtained by calling the Council office at (813) 348-1630.

Special Accommodations

These meetings are physically accessible to people with disabilities. Requests for sign language interpretation or other auxiliary aids should be directed to Tina O'Hern at the Council (see ADDRESSES) at least 5 working days prior to the meeting.

Dated: December 22, 2009.
Tracey L. Thompson,
Acting Director, Office of Sustainable Fisheries, National Marine Fisheries Service.

[FR Doc. E9-30611 Filed 12-24-09; 8:45 am]

BILLING CODE 3510-22-S